DEPARTMENT OF JUSTICE

Notice of Lodging Proposed Consent Decree

In accordance with Departmental Policy, 28 CFR 50.7, notice is hereby given that a proposed Consent Decree in United States v. Paul A. Heinrich and Charles Vogel Enterprises, Inc., Case No. 03-C-0075-S (W.D. Wis.), was lodged with the United States District Court for the Western District of Wisconsin on August 26, 2003.

This proposed Consent Decree concerns a complaint filed by the United States against Charles Vogel Enterprises, Inc. (“Vogel”), pursuant to subsections 309(b) and (d) of the Clean Water Act (“CWA”), 33 U.S.C. 1319(b), (d), to obtain injunctive relief from and impose civil penalties against Vogel for violating the Clean Water Act by discharging pollutants without a permit into waters of the United States. The proposed Consent Decree resolves these allegations by requiring Vogel to pay a civil penalty and to cooperate fully with the United States in its further proceedings against the remaining Defendant.

The Department of Justice will accept written comments relating to this proposed Consent Decree for thirty (30) days from the date of publication of this Notice. Please address comments to the Office of the United States Attorney, Western District of Wisconsin, Attention: Leslie K. Herje, P.O. Box 1585, Madison, WI 53701-1585. Please refer to the matter of United States v. Heinrich, DJ Reference No. 90-5-1-1-16504.

The proposed Consent Decree may be examined at the Clerk's Office, United States District Court for the Western District of Wisconsin, P.O. Box 432, Madison, WI 53701-0432. In addition, the proposed Consent Decree may be viewed at http://www.usdoj.gov/enrd/open.html.

Scott A. Schacter,
Assistant Chief, Environmental Defense Section, Environment & Natural Resources Division.

[FR Doc. 03-23072 Filed 9-9-03; 8:45 am]

BILLING CODE 4410-15-M